DEPARTMENT OF THE INTERIOR

Fish and Wildlife Service

[FWS-R6-ES-2012-N305; FF06E13000-123-FXES11130600000D2]

Endangered and Threatened Wildlife and Plants; Enhancement of Survival Permit Application; Draft Greater Sage-Grouse Umbrella Candidate Conservation Agreement With Assurances for Wyoming Ranch Management, and Environmental Assessment

AGENCY: Fish and Wildlife Service, Interior.

ACTION: Notice of availability; request for comments.

SUMMARY: We, the U.S. Fish and Wildlife Service (Service), are announcing the availability of the following documents for review and comment by the public and Federal, Tribal, State, and local governments:

• Draft Greater Sage-grouse Umbrella Candidate Conservation Agreement with Assurances for Wyoming Ranch Management (Umbrella CCAA), and

• Draft Environment Assessment of the Greater Sage-grouse Umbrella Candidate Conservation Agreement with Assurances for Wyoming Ranch Management (EA).

The Service and several State, Federal, and local partners prepared the draft Umbrella CCAA to provide Wyoming ranchers with the opportunity to voluntarily conserve greater sage-grouse and its habitat while carrying out their ranching activities. Ranchers may apply for an enhancement of survival permit under the Endangered Species Act of 1973, as amended (ESA), by agreeing to implement certain conservation measures in the Umbrella CCAA that apply to their properties. Pursuant to the National Environmental Policy Act, we also prepared a draft environmental assessment (EA) that analyzes the potential impacts to the human environment from the proposed Umbrella CCAA and alternatives to the action.

DATES: Written comments must be submitted by March 11, 2013.

ADDRESSES: Send written comments by U.S. mail to Tyler Abbott, Deputy Field Supervisor, Wyoming Ecological Services Field Office, U.S. Fish and Wildlife Service, 5353 Yellowstone Road, Suite 308A, Cheyenne, WY 82009, or via email to WYSagegrouseCCAA@fws.gov. You also may send comments by facsimile to 307-772-2358. The draft CCAA and EA are available on our Mountain-Prairie Region Ecological Services Web site at www.fws.gov/wyominges/. You also may review copies of these documents during regular business hours at the Wyoming Ecological Services Field Office (see address above). If you do not have access to the Web site or cannot visit our office, you may request copies by telephone at 307-772-2374 ext. 231 or by letter to the Wyoming Field Office.

FOR FURTHER INFORMATION CONTACT: Tyler Abbott, U.S. Fish and Wildlife Service, 307-772-2374 ext. 231; tyler_abbott@fws.gov.

SUPPLEMENTARY INFORMATION: Under a Candidate Conservation Agreement with Assurances (CCAA), participating landowners voluntarily undertake management activities on their property to enhance, restore, or maintain habitat benefiting species that are proposed for listing or candidates for listing under the ESA, or those species that may become candidates. A CCAA, and the subsequent permits that are issued pursuant to section 10(a)(1)(A) of the ESA (16 U.S.C. 1531 et seq.), encourage private and non-Federal property owners to implement conservation efforts for species by assuring property owners that they will not be subjected to increased land use restrictions as a result of efforts to attract or increase the numbers or distribution of a listed species on their property if that species becomes listed under the ESA in the future. CCAA permit application requirements and issuance criteria are found in 50 CFR 17.22(d) and 17.32(d).

On March 23, 2010, the Service determined that listing the greater sage-grouse (Centrocercus urophasianus) under the ESA (16 U.S.C. 1538) was warranted, but precluded by the need to address higher priority species first. As result, the U.S. Fish and Wildlife Service, in coordination with the Wyoming Governor's Office, the Bureau of Land Management, the Natural Resources Conservation Service, the Wyoming Department of Agriculture, Wyoming Game and Fish Department, and the Wyoming Association of Conservation Districts, developed a draft statewide umbrella CCAA for ranch management. The intent of the umbrella CCAA is to use voluntary, proactive conservation measures to reduce or remove threats to the greater sage-grouse, thereby potentially reducing the need to list the species. The draft umbrella CCAA covers an area of approximately 17 million acres of privately owned lands within the range of the greater sage-grouse in Wyoming.

The draft umbrella CCAA contains a comprehensive menu of conservation measures designed to reduce or remove each identified potential threat to the greater sage-grouse that may occur on a ranching operation in Wyoming. This approach allows each interested rancher to select conservation measures specific to their operation, rather than require each participant to conform to one prescriptive action. A private landowner who wishes to enroll in the umbrella CCAA would develop a streamlined individual CCAA for the enrolled property. Partner agencies would assist the landowner in selecting the conservation measures from the umbrella CCAA that would address threats occurring on the property to be enrolled. Each landowner would submit their individual CCAA to the Service to apply for a section 10(a)(1)(A) permit for take of the sage-grouse incidental to conservation and ranching activities, should the species become listed.

The Service and other participating agencies have also prepared a draft EA that considers the potential impacts of implementing the umbrella CCAA and issuing assurances and individual permits to private landowners participating in the umbrella CCAA.

Public Availability of Comments

Before including your address, phone number, email address, or other personal identifying information in your comment, you should be aware that your entire comment—including your personal identifying information—may be made publicly available at any time. While you can ask us in your comment to withhold your personal identifying information from public review, we cannot guarantee that we will be able to do so.

Dated: January 23, 2013.
Michael Thabault,
Acting Regional Director, Mountain-Prairie Region, Denver, Colorado.

[FR Doc. 2013-02728 Filed 2-6-13; 8:45 am]

BILLING CODE 4310-55-P